ENVIRONMENTAL PROTECTION AGENCY

[FRL-7474-1]

Proposed Consent Decree

AGENCY: Environmental Protection Agency.

ACTION: Notice of proposed consent decree; request for public comment.

SUMMARY: In accordance with section 113(g) of the Clean Air Act, as amended, 42 U.S.C. 7413(g), notice is hereby given of a proposed partial consent decree, which the United States Environmental Protection Agency (“EPA”) lodged with the United States District Court for the District of Columbia on March 21, 2003, in a lawsuit filed by the Sierra Club under section 304(a) of the Act, 42 U.S.C. 7604(a), Sierra Club v. Whitman, No. 01-01537 (consolidated with cases 01548, 01558, 01569, 01582, and 01597) (D.D.C.).

DATES: Written comments on the proposed consent decree must be received by April 28, 2003.

ADDRESSES: Written comments should be sent to Apple Chapman, Air and Radiation Law Office (2344A), Office of General Counsel, U.S. Environmental Protection Agency, 1200 Pennsylvania Avenue, NW., Washington, DC 20460. A copy of the proposed consent decree is available from Phyllis Cochran, (202) 564-7606.

FOR FURTHER INFORMATION CONTACT: Apple Chapman at (202) 564-5666.

SUPPLEMENTARY INFORMATION: This lawsuit concerns EPA's alleged failure to meet certain deadlines in the Clean Air Act (“CAA”). The proposed partial consent decree would fully settle four of the above-listed consolidated cases and partially settle two others.

Specifically, the consent decree provides that EPA shall: (1) Promulgate emission standards under CAA section 112(d), 42 U.S.C. 7412(d), for any twelve (12) of the remaining listed categories subject to CAA section 112(e)(1)(E), 42 U.S.C. 7412(e)(1)(E), on or before August 29, 2003 and for the remaining four (4) categories on or before February 27, 2004; (2) promulgate emission standards under CAA section 112(d), 42 U.S.C. 7412(d), for hazardous waste burning industrial boilers on or before June 15, 2005; (3) pursuant to CAA section 129(a)(5), 42 U.S.C. 7429(a)(5), promulgate revisions of the new source performance standards and emission guidelines for large municipal waste combustion units by April 28, 2006; (4) promulgate specified regulations under CAA section 112(d), 42 U.S.C. 7412 (d), pursuant to CAA sections 112(c)(3), 112(k), and 112(c)(6), 42 U.S.C. 7412 (c)(3), (k) and (c)(6) for certain categories of area sources by specified deadlines; (5) promulgate emission standards for “other categories of solid waste incineration units” under CAA section 129(a)(1)(E), 42 U.S.C. 7419(a)(1)(E), by November 30, 2005. Lastly, the consent decree provides that the parties stipulate to a dismissal of the claims in Case No. 01-1582 which alleged EPA's failure to submit the Report to Congress under CAA section 112(s), 42 U.S.C. 7412(s).

For a period of thirty (30) days following the date of publication of this notice, the Agency will receive written comments relating to the proposed consent decree from persons who are not named as parties or intervenors to the litigation in question. The EPA or the Department of Justice may withdraw or withhold consent to the proposed consent decree if the comments disclose facts or considerations that indicate that such consent is inappropriate, improper, inadequate, or inconsistent with the requirements of the Clean Air Act. Unless EPA or the Department of Justice determines, following the comment period, that consent is inappropriate, the consent decree will be final.

Dated: March 21, 2003.
Lisa K. Friedman,
Associate General Counsel, Air and Radiation Law Office.

[FR Doc. 03-7370 Filed 3-26-03; 8:45 am]

BILLING CODE 6560-50-P